DEPARTMENT OF ENERGY

Federal Energy Regulatory Commission

[Docket No. EG01-45-000, et al.]

Constellation Power Source Generation, Inc., et al.; Electric Rate and Corporate Regulation Filings

May 11, 2001.

Take notice that the following filings have been made with the Commission:

1. Constellation Power Source Generation, Inc.

[Docket No. EG01-45-000]

Take notice that on May 8, 2001, Constellation Power Source Generation, Inc. (Applicant), having its principal place of business at 111 Market Place, Suite 500, Baltimore, Maryland 21202, filed with the Federal Energy Regulatory Commission (FERC or the Commission) a second amended and restated application for redetermination of exempt wholesale generator (EWG) status pursuant to Part 365 of the Commission's regulations. This application amends and restates an application for EWG status originally filed by the Applicant with the Commission on December 5, 2000, as amended on January 19, 2001 in the above-captioned proceeding.

The Applicant is a Maryland corporation and is engaged, directly or indirectly through an affiliate as defined in Section 2(a)(11)(B) of the Public Utility Holding Company Act of 1935 (PUHCA), exclusively in owning or operating, or owning and operating, eligible facilities and participating in project development activities incidental to such eligible electric facilities as authorized under PUHCA. The Applicant owns and operates eligible facilities located in Maryland and Pennsylvania.

Comment date: May 23, 2001, in accordance with Standard Paragraph E at the end of this notice. The Commission will limit its consideration of comments to those that address the adequacy or accuracy of the amended application.

2. Gray County Wind Energy, LLC

[Docket No. EG01-206-000]

Take notice that on May 8, 2001, Gray County Wind Energy, LLC (the Applicant), with its principal office at 700 Universe Boulevard, Juno Beach, Florida 33408, filed with the Commission an application for determination of exempt wholesale generator status pursuant to Part 365 of the Commission's regulations.

Applicant states that it is a Delaware limited liability company engaged directly and exclusively in the business of developing and operating an approximately 110 MW wind-powered generating facility located in Gray County, Kansas. Electric energy produced by the facility will be sold at wholesale or at retail exclusively to foreign consumers.

Comment date: June 1, 2001, in accordance with Standard Paragraph E at the end of this notice. The Commission will limit its consideration of comments to those that address the adequacy or accuracy of the application.

3. Timber Energy Resources, Inc.

[Docket No. EG01-207-000]

Take notice that on May 8, 2001, Timber Energy Resources, Inc. (Applicant) filed with the Federal Energy Regulatory Commission (Commission) an application for determination of exempt wholesale generator status pursuant to Part 365 of the Commission's regulations.

Applicant, a Texas corporation and currently an indirect wholly owned subsidiary of Casella Waste Systems, Inc., owns and operates a 14 MW eligible facility near Telogia, Florida. The facilities will consist of one steam turbine generator driven by a boiler fired by waste wood products from chip production, waste from logging operations and unrecyclable waster paper, and interconnecting transmission facilities necessary to effect sales of electric energy at wholesale. Applicant also owns and operates a chip mill located near Cairo, Georgia, which is one of the primary sources of the wood waste utilized as fuel for the TERI facility. Applicant, as more fully explained in the application, asserts that it is and will be engaged either directly or indirectly and exclusively in the business of owning and operating the subject facility and selling electric energy at wholesale.

Comment date: June 1, 2001, in accordance with Standard Paragraph E at the end of this notice. The Commission will limit its consideration of comments to those that address the adequacy or accuracy of the application.

4. Itiquira Energética S.A.

[Docket No. EG01-208-000]

Take notice that on May 8, 2001, Itiquira Energética S.A., Rua Isaac Povoas 901, Cidade de Cuiabá, MT, Brazil (Itiquira), filed with the Federal Energy Regulatory Commission an application for determination of exempt wholesale generator status pursuant to Part 365 of the Commission's regulations.

Itiquira is a Sociedade anônima formed under the laws of the Federative Republic of Brazil that is developing a hydroelectric generation facility located in the City of Itiquira, State of Mato Grosso, Brazil (the Itiquira Facility or the Facility). Itiquira will build and own a hydroelectric generation facility (the Itiquira Facility) in the City of Itiquira, State of Mato Grasso, Brazil. The Itiquira Facility will consist of two hydroelectric generating units, one of which will have an installed capacity of 60.8 MW and the other of which will have an installed capacity of 95.2 MW. The Itiquira Facility will have an aggregate installed capacity of approximately 156 MW. None of the electric energy produced by the Itiquira Facility will be sold into the United States either at retail or otherwise.

Itiquira has served a copy of the filing on the Securities and Exchange Commission and any affected state commissions.

Comment date: June 1, 2001, in accordance with Standard Paragraph E at the end of this notice. The Commission will limit its consideration of comments to those that address the adequacy or accuracy of the application.

5. Indian River Power LLC

[Docket No. EG01-209-000]

Take notice that on May 9, 2001, Indian River Power LLC filed with the Federal Energy Regulatory Commission an application for determination of exempt wholesale generator status pursuant to section 32(a)(1) of the Public Utility Holding Company Act of 1935 (PUHCA). The applicant is a limited liability company organized under the laws of the State of Delaware that is acquiring the Indian River Station in Millsboro, Delaware (Facilities) and selling electric energy at wholesale. The total capacity of the Facilities is 784 MW. Determinations pursuant to section 32(c) of PUHCA have been received from the State commissions of Delaware, Maryland, and Virginia, and a determination is pending from the State commission of New Jersey.

Comment date: June 1, 2001, in accordance with Standard Paragraph E at the end of this notice. The Commission will limit its consideration of comments to those that address the adequacy or accuracy of the application.

6. Vienna Power LLC

[Docket No. EG01-210-000]

Take notice that on May 9, 2001, Vienna Power LLC filed with the Federal Energy Regulatory Commission (Commission) an application for determination of exempt wholesale generator status pursuant to section 32(a)(1) of the Public Utility Holding Company Act of 1935 (PUHCA).

The applicant is a limited liability company organized under the laws of the State of Delaware that is acquiring a 153 MW oil-fired steam unit and a 17 MW oil-fired combustion turbine unit at the Vienna Station in Vienna, Maryland. Determinations pursuant to section 32(c) of PUHCA have been received from the State commissions of Delaware, Maryland, and Virginia, and a determination is pending from the State commission of New Jersey.

Comment date: June 1, 2001, in accordance with Standard Paragraph E at the end of this notice. The Commission will limit its consideration of comments to those that address the adequacy or accuracy of the application.

7. AES Huntington Beach, L.L.C.

[Docket No. ER98-2184-006]

Take notice that on May 7, 2001, AES Huntington Beach, L.L.C. (AES Huntington Beach) tendered for filing an updated market power analysis as required by the Commission's April 30, 1998 order in Docket No. ER98-2184-000 granting AES Huntington Beach market-based rate authority. This filing is a triennial update of the 1998 analysis submitted to the Commission in connection with the initial request for market-based rates by AES Huntington Beach.

AES Huntington Beach also filed a revision to its Rate Schedule FERC No. 1 and a Supplemental Code of Conduct thereto.

Comment date: May 29, 2001, in accordance with Standard Paragraph E at the end of this notice.

8. AES Alamitos, L.L.C.

[Docket No. ER98-2185-006]

Take notice that on May 7, 2001, AES Alamitos, L.L.C. (AES Alamitos) tendered for filing an updated market power analysis as required by the Commission's April 30, 1998 order in Docket No. ER98-2185-000 granting AES Alamitos market-based rate authority. This filing is a triennial update of the 1998 analysis submitted to the Commission in connection with the initial request for market-based rates by AES Alamitos.

AES Alamitos also filed a revision to its Rate Schedule FERC No. 1 and a Supplemental Code of Conduct thereto.

Comment date: May 29, 2001, in accordance with Standard Paragraph E at the end of this notice.

9. AES Redondo Beach, L.L.C.

[Docket No. ER98-2186-006]

Take notice that on May 7, 2001, AES Redondo Beach, L.L.C. (AES Redondo Beach) tendered for filing an updated market power analysis as required by the Commission's April 30, 1998 order in Docket No. ER98-2186-000 granting AES Redondo Beach market-based rate authority. This filing is a triennial update of the 1998 analysis submitted to the Commission in connection with the initial request for market-based rates by AES Redondo Beach.

AES Redondo Beach also filed a revision to its Rate Schedule FERC No. 1 and a Supplemental Code of Conduct thereto.

Comment date: May 29, 2001, in accordance with Standard Paragraph E at the end of this notice.

10. Arizona Public Service Company

[Docket No. ER99-3288-002]

Take notice that on May 8, 2001, Arizona Public Service Company (APS) tendered for filing Quarterly Refund payments to eligible wholesale customers under the Company's Fuel Cost Adjustment Clause (FAC).

A copy of this filing has been served upon the affected parties, the California Public Utilities Commission, and the Arizona Corporation Commission.

Customer name rate schedule | APS-FPC/FERC
Electrical District No. 3 | 12
Tohono O'odham Utility Authority ¹ | 52
Arizona Electric Power Cooperative | 57
Wellton-Mohawk Irrigation and Drainage District | 58
Arizona Power Authority | 59
Colorado River Indian Irrigation Project | ² 65
Electrical District No. 1 | 68
Arizona Power Pooling | 70
Town of Wickenburg | 74
Southern California Edison Company | 120
Electrical District No. 6 | 126
Electrical District No. 7 | 128
City of Page | 134
Electrical District No. 8 | 140
Aguila Irrigation District | 141
McMullen Valley Water Conservation and Drainage District | 142
Tonopah Irrigation District | 143
Citizens Utilities Company | ² 207
Harquahala Valley Power District | 153
Buckeye Water Conservation and Drainage District | 155
Roosevelt Irrigation District | 158
Maricopa County Municipal Water Conservation District | 168
City of Williams | 192
San Carlos Indian Irrigation Project | 201
Maricopa County Municipal Water Conservation District at Lake Pleasant | 209
¹ Formerly Papago Utility Tribal Authority.
² APS-FPC/FERC Rate Schedule in effect during the refund period.

Comment date: May 29, 2001, in accordance with Standard Paragraph E at the end of this notice.

11. New York Independent System Operator, Inc.; New York Independent System Operator, Inc.; New York State Electric & Gas Corp. v. New York Independent System Operator, Inc.

[Docket Nos. ER00-3591-007, ER00-1969-008, ER00-3038-008 and EL00-70-005]

Take notice that on May 7, 2001, the New York Independent System Operator, Inc. (NYISO) tendered for filing revisions to its Open Access Transmission Tariff and Market Administration and Control Area Services Tariff in order to implement its hybrid fixed block pricing rule, pursuant to the Commission's order issued on April 26, 2001 in the above-captioned dockets. The NYISO has requested an effective date of May 1, 2001 for the filing.

The NYISO has served a copy of this filing upon parties on the official service lists maintained by the Commission for the above-captioned dockets.

Comment date: May 29, 2001, in accordance with Standard Paragraph E at the end of this notice.

12. Sithe Fore River Development LLC; Sithe Mystic Development LLC

[Docket Nos. ER01-41-001 and ER01-42-001]

Take notice that on May 4, 2001, Sithe Fore River Development, LLC (SFRD) and Sithe Mystic Development, LLC (SMD) tendered for filing to grant them a waiver of the Commission's inter-affiliate power sales pricing limitation and code of conduct requirements consistent with the waivers granted the Sithe Jurisdictional Affiliates in Sithe Edgar, LLC, et al., 94 FERC ¶ 61,051 (2001) in FERC Docket No. ER01-513-000. In addition, SFRD and SMD included in their May 4 filing their Original FERC Electric Rate Schedules Nos. 1 and 2, which were accepted by the Commission in a letter order on November 29, 2000 in FERC Docket Nos. ER01-41-000 and ER01-42-000, with the appropriate Order No. 614 designations.

Comment date: May 25, 2001, in accordance with Standard Paragraph E at the end of this notice.

13. PacifiCorp

[Docket No. ER01-798-002]

Take notice that on May 7, 2001, PacifiCorp tendered for filing in accordance with 18 CFR 35 of the Commission's Rules and Regulations and in compliance with the Commission Order dated April 27, 2001 under FERC Docket No. ER01-798-000, Commission ordered revisions to Schedules 4, 7 and 8 and a new Attachment J to its open access transmission tariff, PacifiCorp's FERC Electric Tariff, Second Revised Volume No. 11 (Tariff). The revisions modify the procedures used in the handling of energy imbalances and transmission losses under the Tariff.

Copies of this filing were supplied to the Washington Utilities and Transportation Commission.

Comment date: May 29, 2001, in accordance with Standard Paragraph E at the end of this notice.

14. Green Mountain Power Corporation

[Docket No. ER01-989-001]

Take notice that on May 4, 2001, Green Mountain Power Corporation (GMP) tendered for filing a generation market power study that supports acceptance of its proposed FERC Electric Tariff, Original Volume No. 4, which is a wholesale market-based rate power sales tariff.

Comment date: May 25, 2001, in accordance with Standard Paragraph E at the end of this notice.

15. New England Power Pool

[Docket Nos. ER01-1401-002]

Take notice that on May 4, 2001, the New England Power Pool (NEPOOL) Participants Committee tendered for filing a report of compliance in response to requirements of the Commission's April 26, 2001 order in Docket No. ER01-1401-000. New England Power Pool, 95 FERC ¶ 61,123 (2001).

The NEPOOL Participants Committee states that copies of these materials were sent to all persons identified on the service lists in the captioned proceedings, the NEPOOL Participants and the six New England state governors and regulatory commissions.

Comment date: May 25, 2001, in accordance with Standard Paragraph E at the end of this notice.

16. Virginia Electric and Power Company

[Docket No. ER01-1647-002]

Take notice that on May 8, 2001, Virginia Electric and Power Company, doing business as Dominion North Carolina Power (the Company) tendered for filing an amendment in the above-captioned proceeding in order to include Schedule TS-NCEMC in the North Carolina Electric Membership Corporation Agreement for the Purchase of Electricity for Resale from Virginia Electric and Power Company, Rate Schedule FERC No. 105. The Company inadvertently excluded Schedule TS-NCEMC from its original filing in the above-captioned proceeding.

Copies of the filing were served upon NCEMC, North Carolina Utilities Commission and the Virginia State Corporation Commission.

Comment date: May 29, 2001, in accordance with Standard Paragraph E at the end of this notice.

17. Ameren Services Company

[Docket No. ER01-1786-001]

Take notice that on May 8, 2001, Ameren Services Company, as agent for Union Electric Company (d/b/a AmerenUE) and Central Illinois Public Service Company (d/b/a AmerenCIPS), tendered for filing with the Federal Energy Regulatory Commission (Commission) notice that copies of the April 12, 2001 tariff filing in Docket No. ER01-1786-000 (April 12th Filing) were being served on all transmission customers under the Ameren Operating Companies' Open Access Transmission Tariff (Ameren OATT). The April 12th Filing proposed changes to the Ameren OATT. Ameren Services requested a shortened period for any additional motions to intervene and protests and requested an effective date for the April 12th Filing of July 1, 2001.

Copies of May 8, 2001 filing were served on all transmission customers and affected state commissions.

Comment date: May 30, 2001, in accordance with Standard Paragraph E at the end of this notice.

18. California Independent System Operator Corporation

[Docket No. ER01-1990-000]

Take notice that on May 8, 2001, the California Independent System Operator Corporation, tendered for filing a Participating Generator Agreement between the ISO and Sunrise Power Company for acceptance by the Commission.

The ISO states that this filing has been served on Sunrise Power Company and the California Public Utilities Commission.

The ISO is requesting waiver of the 60-day notice requirement to allow the Participating Generator Agreement to be made effective May 3, 2001.

Comment date: May 29, 2001, in accordance with Standard Paragraph E at the end of this notice.

19. California Independent System Operator Corporation

[Docket No. ER01-1991-000]

Take notice that on May 8, 2001, the California Independent System Operator Corporation, tendered for filing a Meter Service Agreement for ISO Metered Entities between the ISO and Sunrise Power Company for acceptance by the Commission.

The ISO states that this filing has been served on Sunrise Power Company and the California Public Utilities Commission.

The ISO is requesting waiver of the 60-day notice requirement to allow the Meter Service Agreement for ISO Metered Entities to be made effective May 3, 2001.

Comment date: May 29, 2001, in accordance with Standard Paragraph E at the end of this notice.

20. Idaho Power Company

[Docket No. ER01-1992-000]

Take notice that on May 8, 2001, Idaho Power Company tendered for filing a long-term service agreement under its open access transmission tariff in the above-captioned proceeding.

Comment date: May 29, 2001, in accordance with Standard Paragraph E at the end of this notice.

21. Timber Energy Resources, Inc.

[Docket No. ER01-1993-000]

Take notice that on May 8, 2001, Timber Energy Resources, Inc. (TERI) tendered for filing an initial rate schedule and request for certain waivers and authorizations pursuant to Section 35.12 of the regulations of the Federal Energy Regulatory Commission (the Commission). The initial rate schedule provides for market-based sales to wholesale purchasers of the output of a 14 MW electric power generation facility located near Telogia, Florida.

TERI requests that the Commission set an effective date for the rate schedule on the date the Commission issues an order accepting the rate schedule.

A copy of the filing was served upon the Florida Public Service Commission.

Comment date: May 29, 2001, in accordance with Standard Paragraph E at the end of this notice.

22. Snapping Shoals Electric Membership Corp.

[Docket No. ER01-1994-000]

Take notice that on May 8, 2001, Snapping Shoals Electric Membership Corp. (Snapping Shoals), a non-profit electric distribution cooperative located in Marietta, Georgia, tendered for filing a petition for authority to sell power at market-based rates, acceptance of its proposed rate schedule and certain waivers. Snapping Shoals requests an effective date for its proposed rate schedule that would be 60 days from the date of the filing of its petition or the date of the order accepting Snapping Shoals' rate schedule for filing, whichever is earlier.

Comment date: May 29, 2001, in accordance with Standard Paragraph E at the end of this notice.

23. California Independent System Operator Corporation

[Docket No. ER01-1995-000]

Take notice that on May 8, 2001, the California Independent System Operator Corporation (ISO) tendered for filing an amendment (Amendment No. 1) to the Interconnected Control Area Operating Agreement (ICAOA) between the ISO and Nevada Power Company (NEVP). The primary purpose of Amendment No. 1 to the ICAOA is to implement the change in Control Area boundary related to the new Merchant Intertie between the ISO and NEVP. The ISO requests that the Commission allow the filing to be effective as of January 17, 2001.

The ISO states that this filing has been served upon all parties that received service in Docket No. ER00-2292-000.

Comment date: May 29, 2001, in accordance with Standard Paragraph E at the end of this notice.

24. Entergy Services, Inc.

[Docket No. ER01-1996-000]

Take notice that on May 8, 2001, Entergy Services, Inc., on behalf of Entergy Gulf States, Inc., tendered for filing an Interconnection and Operating Agreement with Borden Chemicals and Plastics Operating Limited Partnership, Debtor-in-Possession (Borden), and a Generator Imbalance Agreement with Borden.

Comment date: May 29, 2001, in accordance with Standard Paragraph E at the end of this notice.

25. California Independent System Operator Corporation

[Docket No. ER01-1997-000]

Take notice that on May 8, 2001, the California Independent System Operator Corporation, on May 3, 2001, tendered for filing a Meter Service Agreement for ISO Metered Entities between the ISO and POSDEF Power Company, L.P. for acceptance by the Commission.

The ISO states that this filing has been served on POSDEF Power Company, L.P. and the California Public Utilities Commission.

The ISO is requesting waiver of the 60-day notice requirement to allow the Meter Service Agreement for ISO Metered Entities to be made effective April 25, 2001.

Comment date: May 29, 2001, in accordance with Standard Paragraph E at the end of this notice.

26. California Independent System Operator Corporation

[Docket No. ER01-1998-000]

Take notice that on May 8, 2001, the California Independent System Operator Corporation, tendered for filing a Participating Generator Agreement between the ISO and Los Medanos Energy Center, LLC for acceptance by the Commission.

The ISO states that this filing has been served on Los Medanos Energy Center, LLC and the California Public Utilities Commission.

The ISO is requesting waiver of the 60-day notice requirement to allow the Participating Generator Agreement to be made effective May 3, 2001.

Comment date: May 29, 2001, in accordance with Standard Paragraph E at the end of this notice.

27. Monroe Power Company

[Docket No. ER01-1999-000]

Take notice that on May 8, 2001, Monroe Power Company (MPC) tendered for filing an executed Service Agreement with Dynegy Power Marketing, Inc. under the provisions of MPC's Market-Based Rates Tariff, FERC Electric Tariff No. 1. MPC is requesting an effective date of June 1, 2001 for this agreement.

Copies of the filing were served upon the North Carolina Utilities Commission, the South Carolina Public Service Commission and the Georgia Public Service Commission.

Comment date: May 29, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12503 Filed 5-17-01; 8:45 am]

BILLING CODE 6717-01-P